NATIONAL ARCHIVES AND RECORDS ADMINISTRATION

[NARA-2023-005]

Agency Information Collection Activities: Submission for OMB Review; Comment Request

AGENCY: National Archives and Records Administration (NARA).

ACTION: Notice.

SUMMARY: We have submitted a request to the Office of Management and Budget (OMB) for approval to continue to use a currently approved information collection that our Office of Government Information Services (OGIS) uses to obtain customer intake information and consent as part of its mediation services program. We invite you to comment on the proposed information collection.

DATES: OMB must receive written comments on or before December 12, 2022.

ADDRESSES: Send any comments and recommendations on the proposed information collection in writing to www.reginfo.gov/public/do/PRAMain. You can find this particular information collection by selecting “Currently under 30-day Review—Open for Public Comments” or by using the search function.

FOR FURTHER INFORMATION CONTACT: Tamee Fechhelm, Paperwork Reduction Act Officer, by email at tamee.fechhelm@nara.gov or by telephone at 301.837.1694 with any requests for additional information.

SUPPLEMENTARY INFORMATION: Pursuant to the Paperwork Reduction Act of 1995 (Pub. L. 104-13), we invite the public and other Federal agencies to comment on proposed information collections. We published a notice of proposed collection for this information collection on July 29, 2022 (87 FR 45804) and we received no comments. We are therefore submitting the described information collection to OMB for approval.

If you have comments or suggestions, they should address one or more of the following points: (a) whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses.

In this notice, we solicit comments concerning the following information collection:

Title: Freedom of Information Act (FOIA) Request for Assistance and Consent.

OMB number: 3095-0068.

Included agency form: NA Form 10003, Consent to Make Inquiries and Release of Information and Records.

Type of review: Regular.

Affected public: Individuals or households, business or other for-profit, not-for-profit institutions, and Federal Government.

Estimated number of respondents: 3,676.

Estimated time per response: Ten minutes.

Frequency of response: On occasion.

Estimated total annual burden hours: 609 hours.

Abstract: In order to fulfill its Government-wide statutory mission to mediate FOIA disputes between requesters and agencies, OGIS must communicate with Government departments and agencies regarding the customer's FOIA/Privacy Act of 1974 request or appeal. As a result, OGIS collects intake information from customers who request OGIS's mediation services. This information includes the customer's name, contact information, FOIA case number, information on the customer's concern areas/resolution goals, and documents relating to the underlying FOIA/Privacy Act request or appeal. Customers provide this information by phone, fax, email, or mail.

OGIS and other agencies must handle FOIA and Privacy Act-protected case information in conformity with the requirements of the FOIA and Privacy Act, including 5 U.S.C. 552a(b), which prohibits agencies from releasing Privacy-Act protected information without an already-established routine use or consent of the person to whom the information pertains. In accord with this requirement, a subset of customers also must fill out a privacy consent form, NA Form 10003, if dealing with an agency that has not published a system of records notice with a routine use for release of information to OGIS.

OGIS uses the information customers provide in this information collection to contact customers, request information on the customer's case from other Federal agencies, and provide the requested assistance. Without the information submitted in the intake process and the consent form, OGIS would be unable to get the information from other agencies or fulfill its mediation mission.

Sheena Burrell,
Executive for Information Services/CIO.

[FR Doc. 2022-24525 Filed 11-9-22; 8:45 am]

BILLING CODE 7515-01-P